DEPARTMENT OF COMMERCE

International Trade Administration

[A-533-809; A-583-821]

Continuation of Antidumping Duty Orders: Forged Stainless Steel Flanges From India and Taiwan

AGENCY: Import Administration, International Trade Administration, Department of Commerce.

ACTION: Notice of continuation of antidumping duty orders: forged stainless steel flanges from India and Taiwan.

SUMMARY: On April 6, 2000, the Department of Commerce (“the Department”), pursuant to sections 751(c) and 752 of the Tariff Act of 1930, as amended (“the Act”), determined that revocation of the antidumping duty orders on forged stainless steel flanges from India and Taiwan, is likely to lead to continuation or recurrence of dumping. See Certain Forged Stainless Steel Flanges from India and Taiwan; Final Results of Expedited Sunset Reviews of Antidumping Orders, 65 FR 18058 (April 6, 2000) (“Final Results”). On August 2, 2000, the International Trade Commission (“the Commission”), pursuant to section 751(c) of the Act, determined that revocation of the antidumping duty orders on forged stainless steel flanges from India and Taiwan would be likely to lead to continuation or recurrence of material injury to an industry in the United States within a reasonably foreseeable time. See Forged Stainless Steel Flanges from India and Taiwan, 65 FR 47517 (August 2, 2000) (“ITC Final Results”). Therefore, pursuant to 19 CFR 351.218(f)(4), the Department is publishing notice of the continuation of the antidumping duty order on forged stainless steel flanges from India and Taiwan.

EFFECTIVE DATE: August 16, 2000.

FOR FURTHER INFORMATION CONTACT: Kathryn B. McCormick or James P. Maeder, Office of Policy for Import Administration, International Trade Administration, U.S. Department of Commerce, 14th Street and Constitution Ave., NW, Washington, DC 20230; telephone: (202) 482-1930 or (202) 482-3330, respectively.

SUPPLEMENTARY INFORMATION:

Background

On December 1, 1999, the Department initiated, and the Commission instituted, sunset reviews (64 FR 67247 and 64 FR 67313, respectively) of the antidumping duty orders on forged stainless steel flanges from India and Taiwan, pursuant to section 751(c) of the Act. As a result of its review, the Department found on April 6, 2000 that revocation of the antidumping duty orders on forged stainless steel flanges from India and Taiwan would likely lead to continuation or recurrence of dumping and notified the Commission of the magnitude of the margins likely to prevail were the order revoked (see Final Results, 65 FR 18058).

On August 2, 2000, the Commission determined, pursuant to section 751(c) of the Act, that revocation of the antidumping duty orders on forged stainless steel flanges from India and Taiwan would be likely to lead to continuation or recurrence of material injury to an industry in the United States within a reasonably foreseeable time. See ITC Final Results, 65 FR 47517, and USITC Publication 3329 (July 2000), Investigation Nos. 731-TA-639 and 640 (Review).

Scope

The products covered by this order include forged stainless steel flanges (“flanges”), both finished and unfinished, generally manufactured to specification ASTM A-182, and made in alloys such as 304, 304L, 316, and 316L. The scope includes five general types of flanges. They are weld neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order is cast stainless steel flanges. Cast stainless steel flanges generally are manufactured to specification ASTM A-351. The flanges subject to this order are currently classifiable under subheadings 7307.21.1000 and 7307.21.5000 of the Harmonized Tariff Schedule of the United States (“HTSUS”). Although the HTSUS subheading are provided for convenience and customs purposes, the written description of the subject merchandise remains dispositive.

Determination

As a result of the determinations by the Department and the Commission that revocation of the antidumping duty orders would be likely to lead to continuation or recurrence of dumping and material injury to an industry in the United States, pursuant to section 751(d)(2) of the Act, the Department hereby orders the continuation of the antidumping duty orders on forged stainless steel flanges from India and Taiwan. The Department will instruct the U.S. Customs Service to continue to collect antidumping duty deposits at the rates in effect at the time of entry for all imports of subject merchandise. The effective date of continuation of these orders will be the date of publication in the Federal Register of this Notice of Continuation. Pursuant to section 751(c)(2) and 751(c)(6) of the Act, the Department intends to initiate the next five-year reviews of these orders not later than July 2005.

Dated: August 9, 2000.
Troy H. Cribb,
Acting Assistant Secretary for Import Administration.

[FR Doc. 00-20830 Filed 8-15-00; 8:45 am]

BILLING CODE 3510-DS-P